INTERNATIONAL TRADE COMMISSION

[Investigation No. 731-TA-961 (Final) (Remand)]

Carbon and Certain Alloy Steel Wire Rod From Trinidad and Tobago; Notice and Scheduling of Remand Proceeding

AGENCY: U.S. International Trade Commission.

ACTION: Notice.

SUMMARY: The United States International Trade Commission (Commission) gives notice of the court-ordered remand of its final antidumping duty investigation, Investigation No. 731-TA-961 (Final) (Remand).

FOR FURTHER INFORMATION CONTACT: Jonathan J. Engler, Esq., Office of the General Counsel, telephone (202) 205-3112, or Mary Messer, Office of Investigations, telephone (202) 205-3193, U.S. International Trade Commission, 500 E Street, SW., Washington, DC 20436. Hearing-impaired individuals are advised that information on this matter can be obtained by contacting the Commission's TDD terminal on (202) 205-1810. General information concerning the Commission may also be obtained by accessing its Internet server (http://www.usitc.gov).

SUPPLEMENTARY INFORMATION:

Reopening the Record

In October 2002, the Commission made a final affirmative determination in the referenced investigation. 67 FR 66662 (Nov. 1, 2002). Respondent appealed the determination to the U.S. Court of International Trade (CIT), which affirmed the Commission's determination. Caribbean Ispat Ltd. v. United States, Slip Op. 05-37 (March 22, 2005). Respondent appealed to the U.S. Court of Appeals for the Federal Circuit, which vacated and remanded the Commission's determination. Caribbean Ispat Ltd. v. United States, 450 F.3d 1336 (Fed. Cir. 2006). On October 13, 2006, the CIT issued an order remanding the case to the Commission to comply with the Federal Circuit's decision in Caribbean Ispat and giving the Commission until January 12, 2007, to issue its remand determination. The Commission is seeking an extension of that deadline in order to allow the Commission to send out additional questionnaires to obtain further data relevant to the remand instructions. In the meantime, the Commission is proceeding based on the existing deadline, in accordance with the schedule set out below.

In order to assist it in making its determination on remand, the Commission is reopening the record on remand in this investigation to include additional information on the role of non-subject imports of carbon and certain alloy steel wire rod in the U.S. market during the original period of investigation. The record in this proceeding will encompass the material from the record of the original investigation and additional information placed by Commission staff on the record during this remand proceeding.

Participation in the Proceeding

Only those persons who were interested parties in the original administrative proceeding and are parties to the ongoing litigation (i.e., persons listed on the Commission Secretary's service list and parties to Caribbean Ispat Ltd. v. U.S., Court No. 05-1400) may participate as interested parties in this remand proceeding.

Nature of the Remand Proceeding

On December 15, 2006, the Commission will make available to parties who participate in the remand proceeding information that has been gathered by the Commission as part of this remand proceeding. Parties that are participating in the remand proceeding may file comments on or before December 22, 2006, addressing the record facts as they relate to the question raised in the CIT's remand instructions. Such comments shall not exceed 25 double-spaced pages.

In addition, all written submissions must conform with the provisions of section 201.8 of the Commission's rules; any submissions that contain business proprietary information (BPI) must also conform with the requirements of sections 201.6, 207.3, and 207.7 of the Commission's rules. The Commission's rules do not authorize filing submissions with the Secretary by facsimile or electronic means, except to the extent permitted by section 201.8 of the Commission's rules, as amended, 67 FR 68036 (November 8, 2002). Even where electronic filing of a document is permitted, certain documents must also be filed in paper form, as specified in II (C) of the Commission's Handbook on Electronic Filing Procedures, 67 FR 68168, 68173 (November 8, 2002). Each document filed by a party participating in the remand investigation must be served on all other parties who may participate in the remand investigation (as identified by either the public or BPI service list), and a certificate of service must be timely filed. The Secretary will not accept a document for filing without a certificate of service. Parties are also advised to consult the Commission's Rules of Practice and Procedure, part 201, subparts A through E (19 CFR part 201), and part 207, subpart A (19 CFR part 207), for provisions of general applicability concerning written submissions to the Commission.

At this time, the Commission's remand determination is due to be submitted to the CIT on January 12, 2007. On December 4, 2006, the Commission filed a motion with that Court to extend the time to file its remand determination until March 12, 2006. In the event the CIT grants the motion, or otherwise modifies the date on which the Commission's remand determination is due to the Court, the Commission intends to issue an amended notice and schedule.

Limited Disclosure of Business Proprietary Information (BPI) Under an Administrative Protective Order (APO) and BPI Service List

Information obtained during the remand investigation will be released to the referenced parties, as appropriate, under the administrative protective order (APO) in effect in the original investigation. A separate service list will be maintained by the Secretary for those parties authorized to receive BPI under the APO in this remand investigation.

Authority: This action is taken under the authority of the Tariff Act of 1930, title VII.

By order of the Commission.
Issued: December 7, 2006.
Marilyn R. Abbott,
Secretary to the Commission.

[FR Doc. E6-21119 Filed 12-11-06; 8:45 am]

BILLING CODE 7020-02-P